DEPARTMENT OF JUSTICE

[AAG/A Order No. 252-2001]

Privacy Act of 1974; System of Records

Pursuant to the Privacy Act of 1974 (5 U.S.C. 552a) notice is given that the Federal Bureau of Prisons (Bureau) proposes to modify its System of Records “Office of Internal Affairs (OIA) Investigative Records, JUSTICE/BOP-012.” This system, which was last published on August 29, 1995, (60 FR 44901), is now being modified and will become effective sixty (60) days from the date of publication.

Information in this system relates to matters for which the OIA has responsibility pursuant to the Inspector General Act of 1978, 5 U.S.C. App. 3, as amended by the Inspector General Act Amendments of 1988. Responsibilities include auditing, inspecting, and investigating BOP programs and operations with an objective to promote economy, efficiency, and effectiveness in the administration of such programs and operations and to prevent and detect fraud, waste, and abuse in such programs and operations. The system covers records relating to BOP investigations of appropriate individuals and entities, including staff misconduct.

Appropriate sections have been revised to reflect technological advances and new agency practices regarding the storage, retrieval, access, retention and disposal of records in the system. For example, digital recordings and Compact Discs (CDs) have been added to the sections describing Categories of Records and Storage. System locations and description of records have been updated. One routine use has been revised and two routine uses have been added: Routine Use (d) has been revised to permit the BOP to initiate disclosure of staff misconduct information to other government and private correctional entities, as well as responding to inquiries by them, as currently permitted. Routine Use (i) has been added to allow disclosure to contractors. Routine Use (j) has been added to allow disclosure to former employees. All other sections remain the same, including the exemptions from certain provisions of the Privacy Act, as previously promulgated.

Title 5 U.S.C. 552a(e)(4) and (11) provide that the public be provided a thirty (30) day period in which to comment. The Office of Management and Budget (OMB), which has oversight responsibilities under the Privacy Act, requires that it be given a forty (40) day period in which to review the system. Therefore, please submit any comments by April 1, 2002. The public, OMB, and the Congress are invited to send written comments to Mary Cahill, Management and Planning Staff, Justice Management Division, Department of Justice, Washington, DC 20530 (1400 National Place Building).

In accordance with 5 U.S.C. 552a(r), the Department has provided a report to OMB and the Congress on the proposed modification.

A description of the modified system is provided below. Although there were only a few changes to the system as previously published, the entire notice is provided below for the convenience of the public.

Dated: February 20, 2002.
Robert F. Diegelman,
Acting Assistant Attorney General for Administration.,

JUSTICE/BOP-012

SYSTEM NAME:

Office of Internal Affairs Investigative Records.

SYSTEM LOCATION:

Records may be retained at the Central Office, Regional Offices, or at any of the Federal Bureau of Prisons (Bureau) or at any location operated by a contractor authorized to provide correctional, medical, and/or computer service to the Bureau. A list of Bureau system locations may be found at 28 CFR part 503 and on the Internet at http://www.bop.gov.

CATEGORIES OF INDIVIDUALS COVERED BY THE SYSTEM:

In connection with its investigative duties, the Office of Internal Affairs (OIA) maintains records on the following categories of individuals:

(a) Individuals or entities who are or have been the subject of investigations conducted by the Bureau including current or former employees of the Bureau; current and former consultants, contractors, and subcontractors with whom the agency has contracted and their employees; grantees to whom the BOP has awarded grants and their employees; and such other individuals or entities whose association with the Bureau relates to alleged violation(s) of the Bureau's rules of conduct, the Civil Service merit system, and/or criminal or civil law, which may affect the integrity or physical facilities of the Bureau, including inmates and all visitors to Bureau facilities; and

(b) Individuals who are witnesses; complainants; confidential or nonconfidential informants; and parties who have been identified by the Bureau or by other agencies, by constituent units of the Bureau or by members of the general public as potential subjects of or parties to an investigation under the jurisdiction of the Bureau, OIA.

CATEGORIES OF RECORDS IN THE SYSTEM:

OIA records fall into the following three categories:

1. “Information files”: Information received by OIA staff that is unrelated to current investigations and which does not suggest that administrative misconduct was probable, e.g. allegations of staff actions that are performance related.

2. “Complaint files”: Database entries and hard copies of all allegations received, including those that are screened out and do not generally develop into OIA investigations because the matter may be too old, for example.

3. “Investigation files”, also known as “case files”: Information relating to OIA investigations, including:

(a) Letters, memoranda, and other documents citing complaints of alleged criminal, civil, or administrative misconduct;

(b) Reports of investigations to resolve allegations of misconduct or violations of law with related exhibits, statements, affidavits or records obtained during investigations; prior criminal or noncriminal records of individuals as they relate to the investigations; reports from or to other law enforcement bodies; information obtained from informants; nature of allegations made against suspects and identifying data concerning such suspects; and public source materials.

AUTHORITY FOR MAINTENANCE OF THE SYSTEM:

Inspector General Act of 1978, 5 U.S.C. App. 3, as amended by the Inspector General Act Amendments of 1988.

PURPOSE(S):

The Bureau, OIA maintains this system of records in order to conduct its responsibilities pursuant to the Inspector General Act of 1978, 5 U.S.C. App. 3, as amended by the Inspector General Act of 1988. The OIA is statutorily directed to conduct and supervise investigations relating to programs and operations of the Bureau; to promote economy, efficiency, and effectiveness in the administration of such programs and operations; and to prevent and detect fraud, waste and abuse in such programs and operations. Accordingly, the records in this system are used in the course of investigating individuals and entities suspected of having committed illegal and unethical acts in conducting related criminal prosecutions, civil proceedings, or administrative actions.

ROUTINE USES OF RECORDS MAINTAINED IN THE SYSTEM, INCLUDING CATEGORIES OF USERS AND THE PURPOSES OF SUCH USES:

Records in this system may be disclosed as follows:

(a) In the event that records indicate a violation or potential violation of law, whether civil, criminal or regulatory in nature, and whether arising by general statute or particular program statute, or by rule, regulation, or order pursuant thereto, or if records indicate a violation or potential violation of the terms of a contract or grant, the relevant records may be disclosed to the appropriate agency, whether federal, state, local, foreign or international, charged with the responsibility of investigating or prosecuting such violation, enforcing or implementing such statute, rule, regulation or order, or with enforcing the terms of such contract or grant;

(b) A record may be disclosed to a federal, state, local, foreign or international agency, or to an individual or organization when necessary to elicit information which will assist an investigation, inspection or audit;

(c) A record may be disclosed to a federal, state, local, foreign or international agency maintaining civil, criminal or other relevant information if necessary to obtain information relevant to a Bureau decision concerning the assignment, hiring or retention of an individual, the issuance or revocation of a security clearance, the reporting of an investigation of an individual, the letting of a contract, or the issuance or revocation of a license, grant, or other benefit;

(d) A record may be disclosed to a federal, state, local, foreign or international agency, and/or contract correctional company, in connection with the assignment, hiring or retention of an individual, the issuance or revocation of a license, grant, or other benefit by the agency to the extent that the information is relevant and necessary to the agency's decision on the matter;

(e) A record may be disclosed to a Member of Congress or staff acting upon the Member's behalf when the Member or staff requests the information on behalf of, and at the request of the individual who is the subject of the record;

(f) Relevant records may be disclosed to an administrative forum, including ad hoc forums, which may or may not include an Administrative Law Judge, and which may or may not convene public hearings/proceedings, or to other established adjudicatory or regulatory agencies, e.g., the Merit Systems Protection Board, the National Labor Relations Board, or other agencies with similar or related statutory responsibilities, where necessary to adjudicate decisions affecting individuals who are the subject of OIA investigations and/or who are covered by this system, including (but not limited to) decisions to effect any necessary remedial actions, e.g., the initiation of debt collection activity, disciplinary and/or other appropriate personnel action, and/or other law enforcement related actions, where appropriate;

(g) A record may be disclosed to complainants and/or victims to the extent necessary to provide such persons with information concerning the results of the investigation or case arising from the matters of which they complained and/or of which they were a victim;

(h) A record may be disclosed to the National Archives and Records Administration and to the General Services Administration during a records management inspection conducted under 44 U.S.C. 2904 and 2906;

(i) To contractors, grantees, experts, consultants, students, and others performing or working on a contract, service, grant, cooperative agreement, or other assignment for the federal government, when necessary to accomplish an agency function related to this system of records; and

(j) Pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

POLICIES AND PRACTICES FOR STORING, RETRIEVING, ACCESSING, RETAINING, AND DISPOSING OF RECORDS IN THE SYSTEM

STORAGE:

Information maintained in the system is stored in electronic media in Bureau facilities via a configuration of personal computer, client/server, and mainframe systems architecture. Computerized records are maintained on hard disk, Compact Discs (CDs), floppy diskettes, magnetic tapes and/or optical disks. Documentary records are maintained in manual file folders, microfilm and/or index card files.

RETRIEVABILITY:

Entries are arranged alphabetically and are retrieved with reference to the surname of the individuals covered by this system of records.

SAFEGUARDS:

Information is safeguarded in accordance with Bureau rules and policy governing sensitive data and automated information system security and access. These safeguards include the maintenance of records and technical equipment in restricted areas, and the required use of proper passwords and user identification codes to access the system. Only those Bureau personnel who require access to perform their official duties may access the system equipment and the information in the system. Manual records are stored in safes and locked filing cabinets in secured rooms or in guarded buildings.

RETENTION AND DISPOSAL:

Records in this system are retained as follows: (1) “Information files” are maintained for one year from the time the information is received; (2) “complaint files” are maintained for five (5) years from the date of the database entry; and (3) “investigation files” are retained for thirty (30) years from the year the OIA investigation is begun. Documentary records are destroyed by shredding; computer records are destroyed by degaussing and/or shredding.

SYSTEM MANAGER(S) AND ADDRESS:

Assistant Director/ General Counsel, Federal Bureau of Prisons, 320 First Street NW, Washington, D.C. 20534.

NOTIFICATION PROCEDURE:

Inquiries concerning this system should be directed to the System Manager listed above.

RECORD ACCESS PROCEDURE:

The major part of this system is exempted from this requirement pursuant to 5 U.S.C. 552a (j)(2), (k)(1), and (k)(2). To the extent that this system of records is not subject to exemption, it is subject to access. A determination as to exemption shall be made at the time a request for access is received. A request for access to records contained in this system shall be made in writing, with the envelope and the letter clearly marked “Privacy Act Request.” Include in this request the full name of the individual involved, his or her current address, date and place of birth, notarized signature, and any other identifying number or information which may be of assistance in locating the record. The requester shall also provide a return address for transmitting the information. Access requests shall be directed to the System Manager listed above.

CONTESTING RECORD PROCEDURES:

Same as above.

RECORD SOURCE CATEGORIES:

The subjects of investigations; individuals with whom the subjects of investigations are associated; current and former BOP officers and employees; officials of federal, state, local and foreign law enforcement and non-law enforcement agencies; private citizens, witnesses; confidential and nonconfidential informants; and public source materials.

SYSTEMS EXEMPTED FROM CERTAIN PROVISIONS OF THE ACT:

The Attorney General has exempted this system from subsections (c)(3) and (4), (d), (e)(1), (2), (3), (5), and (8) and (g) of the Privacy Act pursuant to 5 U.S.C. 552a(j)(2). In addition, the system has been exempted from subsections (c)(3), (d), and (e)(1) pursuant to 5 U.S.C. 552a(k)(1) and (k)(2). Rules have been promulgated in accordance with the requirements of 5 U.S.C. 553(b), (c) and (e) and have been published in the Federal Register.

[FR Doc. 02-4738 Filed 2-27-02; 8:45 am]

BILLING CODE 4410-05-P